DEPARTMENT OF AGRICULTURE

Food Safety and Inspection Service

[Docket No. FSIS-2014-0018]

Codex Alimentarius Commission: Meeting of the Codex Committee on Food Hygiene (CCFH)

AGENCY: Office of the Under Secretary for Food Safety, USDA.

ACTION: Notice of public meeting and request for comments.

SUMMARY: The Office of the Under Secretary for Food Safety, U.S. Department of Agriculture (USDA), and the Food and Drug Administration (FDA), U.S. Department of Health and Human Services (HHS), are sponsoring a public meeting on October 23, 2014. The objective of the public meeting is to provide information and receive public comments on agenda items and draft United States (U.S.) positions that will be discussed at the 46th Session of the Codex Committee on Food Hygiene (CCFH) of the Codex Alimentarius Commission (Codex), in Lima, Peru, November 17-21, 2014. The Under Secretary for Food Safety and the FDA recognize the importance of providing interested parties the opportunity to obtain background information on the 46th Session of CCFH and to address items on the agenda.

DATES: The public meeting is scheduled for October 23, 2014, from 1:00-4:00 p.m.

ADDRESSES: The public meeting will take place at the Jamie L. Whitten Building, United States Department of Agriculture (USDA), 1400 Independence Avenue SW., Room 107-A, Washington, DC 20250.

Documents related to the 46th Session of the CCFH will be accessible via the World Wide Web at the following address: http://www.codexalimentarius.org/meetings-reports/en/.

Jenny Scott, U.S. Delegate to the 46th Session of the CCFH, invites U.S. interested parties to submit their comments electronically to the following email address Jenny.Scott@fda.hhs.gov.

Call In Number:

If you wish to participate in the public meeting for the 46th Session of the CCFH by conference call, please use the call in number listed below.

Call in Number: 1-888-844-9904.

The participant code will be listed on the following link closer to the meeting date. http://www.fsis.usda.gov/wps/portal/fsis/topics/international-affairs/us-codex-alimentarius/public-meetings.

For Further Information About the 46th Session of CCFH Contact: Jenny Scott, Senior Advisor, Office of Food Safety, Center for Food Safety and Applied Nutrition, U.S. Food and Drug Administration, 5100 Paint Branch Parkway, HFS-300, Room 3B-014, College Park, MD 20740-3835, Phone: (240) 402-2166, Fax: (202) 436-2632, Email: Jenny.Scott@fda.hhs.gov

For Further Information About the Public Meeting Contact: Barbara McNiff, U.S. Codex Office, 1400 Independence Ave SW., Room 4861, Washington, DC, 20250, Phone: (202) 690-4719, Fax: (202) 720-3157, Email: Barbara.McNiff@fsis.usda.gov.

SUPPLEMENTARY INFORMATION:

Background

Codex was established in 1963 by two United Nations organizations, the Food and Agriculture Organization and the World Health Organization. Through adoption of food standards, codes of practice, and other guidelines developed by its committees, and by promoting their adoption and implementation by governments, Codex seeks to protect the health of consumers and ensure that fair practices are used in the food trade.

The CCFH is responsible for:

(a) Drafting basic provisions on food hygiene applicable to all food;

(b) Considering, amending if necessary, and endorsing provisions on hygiene prepared by Codex commodity committees and contained in Codex commodity standards;

(c) Considering, amending if necessary, and endorsing provisions on hygiene prepared by Codex commodity committees and contained in Codex codes of practice unless, in specific cases, the Commission has decided otherwise;

(d) Drafting provisions on hygiene applicable to specific food items or food groups, whether coming within the terms of reference of a Codex commodity committee or not;

(e) Considering specific hygiene problems assigned to it by the Commission;

(f) Suggesting and prioritizing areas where there is a need for microbiological risk assessment at the international level and developing questions to be addressed by the risk assessors; and

(g) Considering microbiological risk management matters in relation to food hygiene, including food irradiation, and in relation to the risk assessment of FAO/WHO.

The CCFH is hosted by the United States.

Issues To Be Discussed at the Public Meeting

The following items on the Agenda for the 46th Session of the CCFH will be discussed during the public meeting:

• Draft Code of Hygienic Practice for Low-Moisture Foods

• Draft Guidelines for Control of Specific Zoonotic Parasites in Meat: Trichinella spp.

• Proposed Draft Guidelines for the Control of Non typhoidal Salmonella spp. In Beef and Pork Meat

• Proposed Draft Guidelines on the Application of General Principles of Food Hygiene to the Control of Foodborne Parasites.

• Proposed Draft Annex on statistical and mathematical considerations to the Principles and Guidelines for the Establishment and Application of Microbiological criteria Related to Foods

• Discussion paper on the need to revise the Code of Hygienic Practice for Fresh Fruits and Vegetables

• Proposals for new work

Each issue listed will be fully described in documents distributed, or to be distributed, by the Secretariat prior to the Committee meeting. Members of the public may access or request copies of these documents (see ADDRESSES).

Public Meeting

At the October 23, 2014, public meeting, draft U.S. positions on the agenda items will be described and discussed, and attendees will have the opportunity to pose questions and offer comments. Written comments may be offered at the meeting or sent to the U.S. Delegate for the 46th Session of the CCFH, Jenny Scott (see ADDRESSES). Written comments should state that they relate to activities of the 46th Session of the CCFH.

Additional Public Notification

FSIS will announce this notice online through the FSIS Web page located at http://www.fsis.usda.gov/wps/portal/fsis/topics/regulations/fsis-notices.

FSIS also will make copies of this Federal Register publication available through the FSIS Constituent Update, which provides information on FSIS policies, procedures, regulations, Federal Register notices, FSIS public meetings, recalls, and other types of information that could affect or would be of interest to constituents and stakeholders. The Update is communicated via Listserv, a free electronic mail subscription service for industry, trade and farm groups, consumer interest groups, allied health professionals, and other individuals who have asked to be included. The Update is available on the FSIS Web page. Through the Listserv and the FSIS Web page, FSIS is able to provide information to a much broader and more diverse audience. In addition, FSIS offers an email subscription service which provides automatic and customized access to selected food safety news and information. This service is available at http://www.fsis.usda.gov/wps/portal/fsis/programs-and-services/email-subscription-service. Options range from recalls to export information to regulations, directives and notices. Customers can add or delete subscriptions themselves and have the option to password protect their account.

USDA Nondiscrimination Statement

The U.S. Department of Agriculture (USDA) prohibits discrimination in all its programs and activities on the basis of race, color, national origin, gender, religion, age, disability, political beliefs, sexual orientation, and marital or family status. (Not all prohibited bases apply to all programs.)

Persons with disabilities who require alternative means for communication of program information (Braille, large print, audiotape, etc.) should contact USDA's Target Center at 202-720-2600 (voice and TTY).

To file a written complaint of discrimination, write USDA, Office of the Assistant Secretary for Civil Rights, 1400 Independence Avenue SW, Washington, DC 20250-9410 or call 202-720-5964 (voice and TTY). USDA is an equal opportunity provider and employer.

Done at Washington, DC, on August 12, 2014.
Mary Frances Lowe,
U.S. Manager for Codex Alimentarius.

[FR Doc. 2014-19448 Filed 8-14-14; 8:45 am]

BILLING CODE 3410-DM-P